DEPARTMENT OF THE INTERIOR

United States Geological Survey

[GX15EN05ESB0500]

Advisory Committee on Climate Change and Natural Resource Science

AGENCY: U.S. Geological Survey, Interior.

ACTION: Notice of Charter Renewal.

SUMMARY: In accordance with the requirements of the Federal Advisory Committee Act, 5 U.S.C. Appendix 2, notice is hereby given that the Charter for the Advisory Committee on Climate Change and Natural Resource Science is renewed for an additional two-year period. In doing so, the Committee will obtain input from Federal, state, tribal, local government, nongovernmental organizations, private sector entities, and academic institutions.

FOR FURTHER INFORMATION CONTACT: Mr. Robin O'Malley, Designated Federal Officer, Policy and Partnership Coordinator, National Climate Change and Wildlife Science Center, U.S. Geological Survey, 12201 Sunrise Valley Drive, Mail Stop 400, Reston, Virginia 20192, romalley@usgs.gov, (703) 648-4086.

SUPPLEMENTARY INFORMATION: Established in May 2013, the Advisory Committee on Climate Change and Natural Resource Science advises the Secretary of the Interior on the establishment and operations of the U.S. Geological Survey National Climate Change and Wildlife Science Center and the Department of the Interior Climate Science Centers. Members represent Federal, state, tribal, local governments, nongovernmental organizations, private sector entities, and academic institutions.

Certification Statement: I hereby certify that the renewal of the Advisory Committee on Climate Change and Natural Resource Science is necessary and in the public interest in connection with the performance of the responsibilities of the Department of the Interior under section 2 of the Reorganization Plan No. 3 of 1950 (64 Stat. 1262), as amended, and the Consolidated Appropriations Act of 2008, Public Law 110-161.

Dated: June 17, 2015.
Sally Jewell,
Secretary of the Interior.

[FR Doc. 2015-16029 Filed 6-29-15; 8:45 am]

BILLING CODE 4310-Y7-P